DEPARTMENT OF ENERGY

Federal Energy Regulatory Commission

[Project No. 1773-000]

Yellowstone Hydroelectric Project; Notice of Existing Licensee's Notice of Intent To Not File a Subsequent License Application, and Soliciting Pre-Application Documents and Notices of Intent To File a License Application

At least five years before the expiration of a license for a minor water power project not subject to sections 14 and 15 of the Federal Power Act (i.e., a project having an installed capacity of 1.5 megawatts or less), the licensee must file with the Commission a letter that contains an unequivocal statement of the licensee's intent to file or not to file an application for a subsequent license.¹

¹ 18 CFR 16.19(b) (2017) (citing 18 CFR 16.6(b)). Section 16.19(b) applies to licenses not subject to Parts 14 and 15 of the Federal Power Act.

If such a licensee informs the Commission that it does not intend to file an application for a subsequent license, nonpower license, or exemption for the project, the licensee may not file an application for a subsequent license, nonpower license, or exemption for the project, either individually or in conjunction with an entity or entities that are not currently licensees of the project.²

² 18 CFR 16.24(b)(1) (2017).

On September 26, 2017, Moon Lake Electric Association, the existing licensee for the Yellowstone Hydroelectric Project No. 1773, filed notice of its intent to not file an application for a subsequent license. Therefore, pursuant to section 16.24(b)(1) of the Commission's regulations, Moon Lake may not file an application for a subsequent license for the project, either individually or in conjunction with an entity or entities that are not currently licensees of the project.

The 900-kilowatt (kW) Yellowstone Hydroelectric Project is located on the Yellowstone River, in Duchesne County, Utah. The diversion dam, and portions of the penstock, are located within the Ashley National Forest. The existing minor license for the project expires on October 15, 2022.

The principal project works consist of: (1) A 15-foot-high, 313-foot-long rock filled, timber-crib dam that impounds a small reservoir covering approximately 3.8 acres; (2) a concrete intake structure with a gate valve; (3) a 14,126-foot-long, 44-inch-diameter and 42-inch-diameter steel penstock; (4) a powerhouse with three turbine-generators rated at 300 kW each; (5) a substation; (6) a 14.27-mile-long, 7.2-kilovolt overhead transmission line and underlain telephone line; and (7) and appurtenant facilities.

Any party interested in filing a license application (i.e., potential applicant) for the Yellowstone Hydroelectric Project No. 1773 must file a Notice of Intent (NOI) ³ and pre-application document (PAD).⁴ Additionally, while the integrated licensing process (ILP) is the default process for preparing an application for a subsequent license, a potential applicant may request to use alternative licensing procedures when it files its NOI.⁵

³ 18 CFR 5.5 (2017).

⁴ 18 CFR 5.6 (2017).

⁵ 18 CFR 5.3(b) (2017).

The deadline for potential applicants, other than the existing licensee, to file NOIs, PADs, and requests to use an alternative licensing process is 120 days from the issuance date of this notice.

Applications for a subsequent license from potential applicants, other than the existing licensee, must be filed with the Commission at least 24 months prior to the expiration of the existing license.⁶ Because the existing license expires on October 15, 2022, applications for license for this project must be filed by October 15, 2020.⁷

⁶ 18 CFR 16.20 (2017).

⁷ To the extent an interested applicant files an NOI and PAD and elects or is required to use the Commission's ILP, a process plan will be issued within 180 days of this notice, which accelerates the steps of the ILP to allow for filing a subsequent license application by the October 15, 2020, deadline.

Questions concerning this notice should be directed to Evan Williams (202) 502-8462 or evan.williams@ferc.gov.

Dated: March 8, 2018.
Kimberly D. Bose,
Secretary.

[FR Doc. 2018-05100 Filed 3-13-18; 8:45 am]

BILLING CODE 6717-01-P